NATIONAL FOUNDATION ON THE ARTS AND THE HUMANITIES

Institute of Museum and Library Services

Notice of Proposed Information Collection Requests: IMLS Evaluation of Grant Programs Funded by the American Rescue Plan Act (ARPA) and the Coronavirus Aid, Relief, and Economic Security (CARES) Act

AGENCY: Institute of Museum and Library Services, National Foundation on the Arts and the Humanities.

ACTION: Submission for OMB review, request for comments, collection of information.

SUMMARY: The Institute of Museum and Library Services (IMLS), announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of IMLS's evaluation of grant programs funded by the American Rescue Plan Act (ARPA) and the Coronavirus Aid, Relief, and Economic Security (CARES) Act.

A copy of the proposed collection request can be obtained by contacting the individual listed below the FOR FURTHER INFORMATION CONTACT section of this Notice.

DATES: Written comments must be submitted to the office listed in the ADDRESSES section below on or before December 31, 2023.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Lisa Hechtman, Ph.D, Social Science Research Analyst, Office of Research and Evaluation, Institute of Museum and Library Services, 955 L'Enfant Plaza North SW, Suite 4000, Washington, DC 20024-2135. Dr. Hechtman can be reached by telephone at 202-653-4724 or by email at lhechtman@IMLS.gov. Persons who are deaf or hard of hearing (TTY users) can contact IMLS at 202-207-7858 via 711 for TTY-Based Telecommunications Relay Service.

SUPPLEMENTARY INFORMATION: The Institute of Museum and Library Services is the primary source of federal support for the Nation's libraries and museums. We advance, support, and empower America's museums, libraries, and related organizations through grant making, research, and policy development. To learn more, visit www.imls.gov.

Current Actions: This Notice proposes the approval of the IMLS Evaluation of Grant Programs Funded by the ARPA and the CARES Act. In direct response to the COVID-19 pandemic, IMLS awarded roughly $250 million in ARPA and CARES Act funds to State Library Administrative Agencies, libraries, and museums. The proposed information collection covers the four largest funding programs, which account for about 99% of funding: Grants to State ARPA State Grants, Grants to State CARES Act State Grants, CARES Act Grants for Museums and Libraries, and American Rescue Plan for Museums and Libraries. Given their more targeted focus, the American Rescue Plan for Native American/Native Hawaiian Museum and Library Services CARES Act Grants for Museums and Libraries and CARES Act Grants for Native American/Native Hawaiian Museum and Library Services programs will be studied separately from this proposed information collection with special emphasis placed on using culturally responsive evaluation methods. The proposed evaluation of IMLS's ARPA and CARES Act grant programs will include a review of the relevant administrative processes and the distribution and use of the funds in order to improve the agency's understanding of the effectiveness of the program and the lessons learned, identify gaps and needs in continuing post-recovery, and improve or inform future design, technical support, and distribution of special use funds as part of an overall emergency response plan.

This study will include conducting 75 semi-structured interviews (73 individual interviews, 2 group interviews, totaling 75 interviews and 79 expected participants) coupled with a secondary data collection effort of reviewing library and museum administrative data, ARPA and CARES Act grant programs awardee reporting, and a literature review. The 60-day Notice was published in the Federal Register on July 28, 2023 (Vol. 88, No. 144). The agency received no comments under this notice.

Agency: Institute of Museum and Library Services.

Title: IMLS Evaluation of Grant Programs Funded by the American Rescue Plan Act (ARPA) and the Coronavirus Aid, Relief, and Economic Security (CARES) Act.

OMB Control Number: 3137-NEW.

Agency Number: 3137.

Respondents/Affected Public: IMLS applicants and awardees, including museum leadership and library leadership for institutions receiving discretionary CARES Act and ARPA grants, and State Library Administrative Agency (SLAA) leadership for SLAAs receiving CARES Act and ARPA formula grants.

Total Estimated Number of Annual Respondents: 79.

Frequency of Response: Once per request.

Average Minutes per Response: 90 minutes.

Total Estimated Number of Annual Burden Hours: 118.5.

Cost Burden (dollars): $3,881.

Total Annual Federal Costs: $27,889.

Public Comments Invited: Comments submitted in response to this Notice will be summarized and/or included in the request for OMB's clearance of this information collection.

Dated: November 28, 2023.
Suzanne Mbollo,
Grants Management Specialist, Institute of Museum and Library Services.

[FR Doc. 2023-26502 Filed 12-1-23; 8:45 am]

BILLING CODE 7036-01-P